ENVIRONMENTAL PROTECTION AGENCY

[FRL-8184-9]

Gulf of Mexico Program Management Committee Meeting

AGENCY: Environmental Protection Agency ( EPA).

ACTION: Notice of meeting.

SUMMARY: Under the Federal Advisory Committee Act (Pub. L. 92-463), EPA gives notice of a meeting of the Gulf of Mexico Program (GMP) Management Committee (MC).

For information on access or services for individuals with disabilities, please contact Gloria Car, U.S. EPA, at (228) 688-2421 or car.gloria@epa.gov. To request accommodation of a disability, please contact Gloria Car, preferably at least 10 days prior to the meeting, to give EPA as much time as possible to process your request.

DATES: The meeting will be held on Wednesday, July 19, 2006, from 1:30 p.m. to 5 p.m. and on July 20, 2006, from 8:30 a.m. to 12 p.m.

ADDRESSES: The meeting will be held at the Intercontinental New Orleans Hotel, 444 St. Charles Street, New Orleans, LA 70130, 504-525-5566. http://www.ichotelsgroup.com

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda topics include: Gulf of Mexico Alliance and Governors' Action Plan Updates; Alliance Activities Implementation Plan; GMP Focused Objectives and Key Initiatives; Binational Initiatives; GMP FY 2007 Workplan and Budget.

The meeting is open to the public.

Dated: June 9, 2006.
Gloria D. Car,
Designated Federal Officer.

[FR Doc. E6-9574 Filed 6-16-06; 8:45 am]

BILLING CODE 6560-50-P